DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of currently approved collections. The ICR describes the nature of the information collection and its expected burden. The Federal Register with a 60-day comment period soliciting comments on the following collection of information was published on October 7, 1999, [FR 64, pages 54720-54721].

DATES: Comments must be submitted on or before March 27, 2000. A comment to OMB is most effective if OMB receives it within 30 days of publication.

FOR FURTHER INFORMATION CONTACT: Judy Street on (202) 267-9895.

SUPPLEMENTARY INFORMATION:

Federal Aviation Administration (FAA)

Title: Domestic and International Flight Plan Forms.

Type of Request: Extension of a currently approved collection.

OMB Control Number: 2120-0026.

Forms(s) FAA Forms 7233-1 and 7233-4.

Affected Public: Anyone flying an airplane.

Abstract: Title 49 USC paragraph 40103(b) authorized regulations governing the flight of aircraft. 14 CFR 91 prescribes requirements for filing domestic and international flight plans. Information is collected to provide services to aircraft inflight and protection of persons/property on the ground.

Estimated Annual Burden Hours: 293,072 burden hours annually.

ADDRESSES: Send comments to the Office of Information and Regulatory Affairs, Office of Management and Budget, 725—17th Street, NW., Washington, DC 20503, Attention: FAA Desk Officer.

Comments Are Invited On: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued in Washington, DC, on February 17, 2000.
Steve Hopkins,
Manager, Standards and Information Division, APF-100.

[FR Doc. 00-4491 Filed 2-24-00; 8:45 am]

BILLING CODE 4910-13-M